NATIONAL SCIENCE FOUNDATION

Advisory Committee for Environmental Research and Education; Notice of Meeting

In accordance with the Federal Advisory Committee Act (Pub. L. 92-463, amended), the National Science Foundation announces the following meeting:

Name: Advisory Committee for Environmental Research and Education (9487).

Dates: October 18, 2006, 8:30 a.m.-5 p.m. and October 19, 2006, 8:30 a.m.-3 p.m.

Place: Stafford II, Room 555, National Science Foundation, 4201 Wilson Blvd., Arlington, Virginia 22230.

Type of Meeting: Open.

Contact Person: Alan Tessier, National Science Foundation, Suite, 4201 Wilson Blvd., Arlington, Virginia 22230. Phone 703-292-7198.

Minutes: May be obtained from the contact person listed above.

Purpose of Meeting: To provide advice, recommendations, and oversight concerning support for environmental research and education.

Agenda: October 18—Update on recent NSF environmental activities, Planning for Diversity Workshop, Update on the social and human impact of NEON, Update on NSF Plans for Water Research, AC-ERE task group meetings, Presentation on the NAS International Human Dimensions of Global Change committee.

October 19—AC-ERE task group reports, Discussion of Biological Sciences Themes in Environmental Research and Education, Update on Cyberinfrastructure for Observing Systems, International Polar Year Update, Meeting with the Director (or Representative).

Dated: September 19, 2006.
Susanne Bolton,
Committee Management Officer.

[FR Doc. 06-8028 Filed 9-21-06; 8:45 am]

BILLING CODE 7555-01-M